DEPARTMENT OF HEALTH AND HUMAN SERVICES

National Institutes of Health

National Center for Complementary and Alternative Medicine Announcement of Workshop on the Non-Pharmacological Management of Back Pain

ACTION: Notice.

SUMMARY: The National Center for Complementary and Alternative Medicine (NCCAM) invites the research community to participate in an online Workshop on Non-Pharmacological Management of Back Pain. The purpose of this workshop is to identify and explore a range of important and timely clinical research questions related to non-pharmacological interventions to treat back pain. This information will help inform future research directions for NIH and the biomedical scientific field. This workshop will be split into three sessions that will feature presentations and discussions focusing on the current understanding and complexity of chronic back pain, promising questions associated with testable hypotheses, and the relevant outcome measures.

The Workshop will take place on May 27, 2009. Those interested in CAM research are particularly encouraged to view and participate.

Background: The National Center for Complementary and Alternative Medicine (NCCAM) was established in 1999 with the mission of exploring complementary and alternative healing practices in the context of rigorous science, training CAM researchers, and disseminating authoritative information to the public and professionals. NCCAM funds research grants that explore the science of CAM. For more information, see http://nccam.nih.gov/grants/whatnccamfunds/.

Participating: The Workshop will be broadcast on the Internet and archived on http://www.videocast.nih.gov/. Viewers may submit questions for the presenters and panelists by e-mailing nccambkpnwkshp@mail.nih.gov with questions or comments. For more information about what will be covered at the workshop, see http://nccam.nih.gov/news/events/.

FOR FURTHER INFORMATION CONTACT: To request more information, visit the NCCAM Web site at http://nccam.nih.gov/news/events/, call 301-594-3391 (Edward Culhane) or e-mail at culhanee@mail.nih.gov.

Dated: May 12, 2009.
Richard Nahin,
Senior Advisor for Scientific Coordination and Outreach, National Center for Complementary and Alternative Medicine, National Institutes of Health.

[FR Doc. E9-11679 Filed 5-19-09; 8:45 am]

BILLING CODE 4140-01-P